DEPARTMENT OF ENERGY

Federal Energy Regulatory Commission

Combined Notice of Filings #1

Take notice that the Commission received the following electric corporate filings:

Docket Numbers: EC17-19-000.

Applicants: Chisholm View Wind Project II, LLC.

Description: Application for Authorization Under Section 203 of the Federal Power Act, Request for Expedited Consideration and Confidential Treatment for Chisholm View Wind Project II, LLC.

Filed Date: 10/19/16.

Accession Number: 20161019-5145.

Comments Due: 5 p.m. ET 11/9/16.

Docket Numbers: EC17-20-000.

Applicants: Eurus Combine Hills I LLC, Crescent Ridge LLC.

Description: Application for Authorization Under Section 203 of the Federal Power Act and Request for Waivers, Confidential Treatment, Expedited Action and Shortened Comment Period of Eurus Combine Hills I LLC, et al.

Filed Date: 10/19/16.

Accession Number: 20161019-5148.

Comments Due: 5 p.m. ET 11/9/16.

Docket Numbers: EC17-21-000.

Applicants: Vantage Wind Energy LLC.

Description: Application for Authorization Under Section 203 of the Federal Power Act and Request for Waivers and Expedited Action of Vantage Wind Energy LLC.

Filed Date: 10/20/16.

Accession Number: 20161020-5098.

Comments Due: 5 p.m. ET 11/10/16.

Take notice that the Commission received the following electric rate filings:

Docket Numbers: ER15-2571-003.

Applicants: GenOn Energy Management, LLC.

Description: Report Filing: Refund Report—Informational Filing to be effective N/A.

Filed Date: 10/20/16.

Accession Number: 20161020-5086.

Comments Due: 5 p.m. ET 11/10/16.

Docket Numbers: ER15-2572-002.

Applicants: GenOn Energy Management, LLC.

Description: Report Filing: Refund Report—Informational Filing to be effective N/A.

Filed Date: 10/20/16.

Accession Number: 20161020-5087.

Comments Due: 5 p.m. ET 11/10/16.

Docket Numbers: ER15-2573-002.

Applicants: GenOn Energy Management, LLC.

Description: Report Filing: Refund Report—Informational Filing to be effective N/A.

Filed Date: 10/20/16.

Accession Number: 20161020-5088.

Comments Due: 5 p.m. ET 11/10/16.

Docket Numbers: ER16-2518-001.

Applicants: PJM Interconnection, L.L.C.

Description: Compliance filing: OATT Revisions re: Earlier Queue Submittal per 10/7/16 Order in ER16-2518-000 to be effective 10/31/2016.

Filed Date: 10/20/16.

Accession Number: 20161020-5066.

Comments Due: 5 p.m. ET 11/10/16.

Docket Numbers: ER17-142-000.

Applicants: Broadview Energy JN, LLC.

Description: § 205(d) Rate Filing: Certificate of Concurrence to be effective 12/1/2016.

Filed Date: 10/19/16.

Accession Number: 20161019-5136.

Comments Due: 5 p.m. ET 11/9/16.

Docket Numbers: ER17-143-000.

Applicants: Southern California Edison Company.

Description: § 205(d) Rate Filing: EDC Letter Agreement between SCE and RPU to be effective 12/21/2016.

Filed Date: 10/20/16.

Accession Number: 20161020-5001.

Comments Due: 5 p.m. ET 11/10/16.

Docket Numbers: ER17-144-000.

Applicants: New York Independent System Operator, Inc.

Description: Request of New York Independent System Operator, Inc. for Limited Tariff Waiver, et al.

Filed Date: 10/19/16.

Accession Number: 20161019-5150.

Comments Due: 5 p.m. ET 10/26/16.

Docket Numbers: ER17-145-000.

Applicants: Southwest Power Pool, Inc.

Description: § 205(d) Rate Filing: 3006R1 CP Bloom Wind, LLC Generator Interconnection Agr to be effective9/26/2016.

Filed Date: 10/20/16.

Accession Number: 20161020-5037.

Comments Due: 5 p.m. ET 11/10/16.

Docket Numbers: ER17-146-000.

Applicants: PJM Interconnection, L.L.C.

Description: Tariff Cancellation: Notice of Cancellation of Service Agreement No. 3780, Queue No. W4-045 to be effective 7/26/2016.

Filed Date: 10/20/16.

Accession Number: 20161020-5047.

Comments Due: 5 p.m. ET 11/10/16.

Docket Numbers: ER17-147-000.

Applicants: Midcontinent Independent System Operator, Inc., MidAmerican Energy Company.

Description: § 205(d) Rate Filing: 2016-10-20_MidAmerican-ITC Midwest Louisa Facilities and Operating Agreements to be effective 10/21/2016.

Filed Date: 10/20/16.

Accession Number: 20161020-5051.

Comments Due: 5 p.m. ET 11/10/16.

Docket Numbers: ER17-148-000.

Applicants: Citizens Sunrise Transmission LLC.

Description: § 205(d) Rate Filing: Annual TRBAA Filing to be effective1/1/2017.

Filed Date: 10/20/16.

Accession Number: 20161020-5067.

Comments Due: 5 p.m. ET 11/10/16.

Docket Numbers: ER17-149-000.

Applicants: Grady Wind Energy Center, LLC.

Description: Baseline eTariff Filing: Certificate of Concurrence to be effective 12/1/2016.

Filed Date: 10/20/16.

Accession Number: 20161020-5072.

Comments Due: 5 p.m. ET 11/10/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 20, 2016.
Nathaniel J. Davis, Sr.,
Deputy Secretary.

[FR Doc. 2016-26224 Filed 10-28-16; 8:45 am]

BILLING CODE 6717-01-P